DEPARTMENT OF HEALTH AND HUMAN SERVICES

Centers for Disease Control and Prevention

[60 Day-03-60]

Proposed Data Collections Submitted for Public Comment and Recommendations

In compliance with the requirement of Section 3506(c)(2)(A) of the Paperwork Reduction Act of 1995 for opportunity for public comment on proposed data collection projects, the Centers for Disease Control and Prevention (CDC) will publish periodic summaries of proposed projects. To request more information on the proposed projects or to obtain a copy of the data collection plans and instruments, call the CDC Reports Clearance Officer on (404)498-1210.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Send comments to Dale Verell, CDC Assistant Reports Clearance Officer, 1600 Clifton Road, MS-D24, Atlanta, GA 30333. Written comments should be received within 60 days of this notice.

Proposed Project

International Performance Standards Project—New—Public Health Practice Program Office (PHPPO), Centers for Disease Control and Prevention (CDC).

The Centers for Disease Control and Prevention (CDC) Public Health Practice Program Office (PHPPO), is proposing to implement a required data collection to:

a. Assess public health preparedness of countries to respond to a public health threat or emergency.

b. Assess progress of countries towards (1) identifying any gaps that need to be strengthened in their public health systems, (2) achieving the critical and enhanced capacities of their public health systems, and (3) setting optimal standards for system performance that will enhance the delivery of public health services.

c. Identify the focus of future proposed work plans, as well as help countries develop a public health research agenda.

d. Provide a consistent framework for each country to characterize the status of its public health infrastructure.

This assessment will use the International Instrument for performance measurement of Essential Public Health Functions. This instrument is used for rapid assessment of capacity at the level of the National Health Authority of countries to respond to public health threats and emergencies. This instrument focuses on the six areas of fiscal year 2002 Supplemental Funds for Public Health Preparedness and Response for Bioterrorism (Announcement Number 99051), as the framework for data collection. The six focus areas are:

Preparedness Planning and Readiness Assessment; Surveillance and Epidemiology Capacity; Laboratory Capacity—Biological Agents; Health Alert Network/Communication and Information Technology; Risk Communication and Health Information Dissemination (Public Information and Communication); Education and Training.

Hard copy assessment instruments will be used in a group setting within countries to collect the data. The respondents will be individuals from all levels of the health system who are knowledgeable about the functions of their system. This process is being done in conjunction with the World Bank and the governments of the different countries who elect to undertake performance measurement of their public health systems using this methodology. The process will be funded through the Bank and the government of the countries. No Federal funds will be used in the process. It is anticipated that more than nine (9) countries may be involved. There will be no cost to respondents.

Respondents | No. of respondents | No. of responses per respondent | Avg. burden response in hrs. | Total burden (in hrs.)
National Health Authorities in Europe and the Middle East | 25 | 1 | 24 | 600
Total |  |  |  | 600

Nancy E. Cheal,
Acting Director, Office of Program Planning and Evaluation, Centers for Disease Control Prevention.

[FR Doc. 03-9423 Filed 4-16-03; 8:45 am]

BILLING CODE 4163-18-P